DEPARTMENT OF ENERGY

Federal Energy Regulatory Commission

Combined Notice of Filings #1

Take notice that the Commission received the following electric rate filings:

Docket Numbers: ER17-814-002; ER17-815-002; ER17-816-002; ER10-2606-013.

Applicants: Verso Energy Services LLC, Verso Luke LLC, Verso Escanaba LLC, Consolidated Water Power Company.

Description: Supplement to June 29, 2018 Updated Market Power Analysis of the Verso Market-Based Rate Entities for Central Region.

Filed Date: 10/23/18.

Accession Number: 20181023-5373.

Comments Due: 5 p.m. ET 11/13/18.

Docket Numbers: ER18-2495-002.

Applicants: PacifiCorp.

Description: Tariff Amendment: Amendment 2 to SA 907 Orion Wind E&P to be effective 9/19/2018.

Filed Date: 10/24/18.

Accession Number: 20181024-5102.

Comments Due: 5 p.m. ET 11/14/18.

Docket Numbers: ER19-168-000.

Applicants: Midcontinent Independent System Operator, Inc., ALLETE, Inc.

Description: § 205(d) Rate Filing: 2018-10-23_SA 3195 MP-GRE T-L IA (Shoal Lake) to be effective 10/24/2018.

Filed Date: 10/23/18.

Accession Number: 20181023-5288.

Comments Due: 5 p.m. ET 11/13/18.

Docket Numbers: ER19-169-000.

Applicants: ISO New England Inc., New England Power Pool Participants Committee.

Description: § 205(d) Rate Filing: ISO-NE and NEPOOL; Filing re CSO Cover Changes to be effective 12/24/2018.

Filed Date: 10/23/18.

Accession Number: 20181023-5303.

Comments Due: 5 p.m. ET 11/13/18.

Docket Numbers: ER19-170-000.

Applicants: Gateway Energy Storage, LLC.

Description: Baseline eTariff Filing: Application for Market-Based Rate Authorization and Request for Waivers to be effective 10/24/2018.

Filed Date: 10/23/18.

Accession Number: 20181023-5334.

Comments Due: 5 p.m. ET 11/13/18.

Docket Numbers: ER19-171-000.

Applicants: Southwestern Electric Power Company.

Description: § 205(d) Rate Filing: Amended and Restated NTEC PSA to be effective 5/31/2018.

Filed Date: 10/23/18.

Accession Number: 20181023-5336.

Comments Due: 5 p.m. ET 11/13/18.

Docket Numbers: ER19-172-000.

Applicants: Southern California Edison Company.

Description: § 205(d) Rate Filing: Amended CLGIA Mammoth Pacific Casa Diablo 4—ITCC to be effective 1/1/2018.

Filed Date: 10/24/18.

Accession Number: 20181024-5000.

Comments Due: 5 p.m. ET 11/14/18.

Docket Numbers: ER19-173-000.

Applicants: Southern California Edison Company.

Description: § 205(d) Rate Filing: Amended LGIAs under TO Tariff—ITCC to be effective 1/1/2018.

Filed Date: 10/24/18.

Accession Number: 20181024-5001.

Comments Due: 5 p.m. ET 11/14/18.

Docket Numbers: ER19-174-000.

Applicants: PJM Interconnection, L.L.C.

Description: § 205(d) Rate Filing: Amendment to WMPA SA No. 4503; Queue No. AB1-166 to be effective 6/27/2016.

Filed Date: 10/24/18.

Accession Number: 20181024-5031.

Comments Due: 5 p.m. ET 11/14/18.

Docket Numbers: ER19-175-000.

Applicants: Midcontinent Independent System Operator, Inc., ALLETE, Inc.

Description: § 205(d) Rate Filing: 2018-10-24_SA 3197 MP-GRE T-L IA (Pokegama) to be effective 10/25/2018.

Filed Date: 10/24/18.

Accession Number: 20181024-5052.

Comments Due: 5 p.m. ET 11/14/18.

Docket Numbers: ER19-176-000.

Applicants: Midcontinent Independent System Operator, Inc., ALLETE, Inc.

Description: § 205(d) Rate Filing: 2018-10-24_SA 3196 MP-GRE T-L IA (Shingobee) to be effective 10/25/2018.

Filed Date: 10/24/18.

Accession Number: 20181024-5057.

Comments Due: 5 p.m. ET 11/14/18.

Docket Numbers: ER19-177-000.

Applicants: Midcontinent Independent System Operator, Inc., ALLETE, Inc.

Description: § 205(d) Rate Filing: 2018-10-24_SA 3198 MP-GRE T-L IA (Hill City) to be effective 10/25/2018.

Filed Date: 10/24/18.

Accession Number: 20181024-5061.

Comments Due: 5 p.m. ET 11/14/18.

Docket Numbers: ER19-178-000.

Applicants: PACE RENEWABLE ENERGY 1 LLC.

Description: Baseline eTariff Filing: MBRA Tariff to be effective 10/25/2018.

Filed Date: 10/24/18.

Accession Number: 20181024-5067.

Comments Due: 5 p.m. ET 11/14/18.

Docket Numbers: ER19-179-000.

Applicants: California Independent System Operator Corporation.

Description: § 205(d) Rate Filing: 2018-10-24 Transferred Frequency Response Agreement with Bonneville to be effective 12/1/2018.

Filed Date: 10/24/18.

Accession Number: 20181024-5091.

Comments Due: 5 p.m. ET 11/14/18.

Docket Numbers: ER19-180-000.

Applicants: Metcalf Energy Center, LLC.

Description: Tariff Cancellation: Termination of Rate Schedule FERC No. 1 to be effective 12/31/2018.

Filed Date: 10/24/18.

Accession Number: 20181024-5103.

Comments Due: 5 p.m. ET 11/14/18.

Take notice that the Commission received the following electric securities filings:

Docket Numbers: ES19-3-000.

Applicants: New Hampshire Transmission, LLC.

Description: Application for Authorization of Issuance of Long-Term Debt Securities under Section 204 of the Federal Power Act, et al. of New Hampshire Transmission, LLC.

Filed Date: 10/24/18.

Accession Number: 20181024-5045.

Comments Due: 5 p.m. ET 11/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2018.
Nathaniel J. Davis, Sr.,
Deputy Secretary.

[FR Doc. 2018-23766 Filed 10-30-18; 8:45 am]

BILLING CODE 6717-01-P